DEPARTMENT OF ENERGY

Federal Energy Regulatory Commission

[Docket No. RP00-534-001]

East Tennessee Natural Gas Company; Notice of Proposed Changes in FERC Gas Tariff

November 6, 2000.

Take notice that on November 1, 2000, East Tennessee Natural Gas Company (East Tennessee) tendered for filing as part of its FERC Gas Tariff, Second Revised Volume No. 1, the following tariff sheets to be effective November 2, 2000:

Eighteenth Revised Sheet No. 4

East Tennessee states that this filing is in compliance with the Commission's October 4, 2000 Letter Order in the above-referenced docket, which required East Tennessee to file a revised Sheet No. 4 to present the currently effective rates.

East Tennessee states that copies of its filing have been mailed to all affected customers and interested state commissions.

Any person desiring to protest said filing should file a protest with the Federal Energy Regulatory Commission, 888 First Street, NE., Washington, DC 20426, in accordance with section 385.211 of the Commission's Rules and Regulations. All such protests must be filed in accordance with Section 154.210 of the Commission's Regulations. Protests will be considered by the Commission in determing the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 00-28942 Filed 11-9-00; 8:45 am]

BILLING CODE 6717-01-M